ENVIRONMENTAL PROTECTION AGENCY

40 CFR Part 52

[EPA-R01-OAR-2013-0786; A-1-FRL-9936-08-Region 1]

Approval and Promulgation of Air Quality Implementation Plans; Massachusetts; Transit System Improvements

AGENCY: Environmental Protection Agency (EPA).

ACTION: Final rule.

SUMMARY: The Environmental Protection Agency (EPA) is approving a State Implementation Plan (SIP) revision submitted by the Commonwealth of Massachusetts. This revision removes from the SIP the design aspect of the Red Line/Blue Line Connector transportation control measure as a requirement in the Massachusetts SIP, without substitution or replacement, and in addition implements administrative changes that lengthen the existing public process requirement so that a public meeting on the annual update and status report be held within seventy-five days of its July 1st submittal date and replaces references to the Executive Office of Transportation (EOT) with references to the Massachusetts Department of Transportation (MassDOT). This action is being taken in accordance with the Clean Air Act.

DATES: This rule is effective on January 7, 2016.

ADDRESSES: EPA has established a docket for this action under Docket Identification No. EPA-R01-OAR-2013-0786. All documents in the docket are listed on the http://www.regulations.gov Web site. Although listed in the index, some information is not publicly available, i.e., CBI or other information whose disclosure is restricted by statute. Certain other material, such as copyrighted material, is not placed on the Internet and will be publicly available only in hard copy form. Publicly available docket materials are available either through http://www.regulations.gov or at the U.S. Environmental Protection Agency, EPA New England Regional Office, Office of Ecosystem Protection, Air Quality Planning Unit, 5 Post Office Square-Suite 100, Boston, MA. EPA requests that if at all possible, you contact the contact listed in the FOR FURTHER INFORMATION CONTACT section to schedule your inspection. The Regional Office's official hours of business are Monday through Friday, 8:30 a.m. to 4:30 p.m., excluding legal holidays.

Copies of the documents relevant to this action are also available for public inspection during normal business hours, by appointment at the Air and Climate Division, Department of Environmental Protection, One Winter Street, 8th Floor, Boston, MA 02108.

FOR FURTHER INFORMATION CONTACT: Donald O. Cooke, Air Quality Planning Unit, U.S. Environmental Protection Agency, EPA New England Regional Office, Office of Ecosystem Protection, 5 Post Office Square-Suite 100, (Mail code OEP05-2), Boston, MA 02109-3912, telephone number (617) 918-1668, fax number (617) 918-0668, email cooke.donald@epa.gov.

SUPPLEMENTARY INFORMATION: Throughout this document whenever “we,” “us,” or “our” is used, we mean EPA.

Organization of this document. The following outline is provided to aid in locating information in this preamble.

I. Background and Purpose

II. Response to Comments

III. Final Action

IV. Incorporation by Reference

V. Statutory and Executive Order Reviews

I. Background and Purpose

On December 1, 2014 (79 FR 71061), EPA published a Notice of Proposed Rulemaking (NPR) for the Commonwealth of Massachusetts. The NPR proposed approval of a revised version of 310 Code of Massachusetts Regulations (CMR) 7.36, “Transit System Improvements,” effective under Massachusetts law on October 25, 2013. An earlier version of this rule had previously been approved by EPA into the Massachusetts SIP. See 73 FR 44654.

The revised regulation: (1) Deletes the SIP requirement to design the Red Line/Blue Line Connector from the Blue Line at Government Center to the Red Line at Charles Station; (2) lengthens by fifteen days (from sixty days to within seventy-five days of the July 1 submittal date) the time period within which MassDEP must hold a public meeting to take public comment on MassDOT's annual update and status report for each project required by 310 CMR 7.36(2)(f) through (j) and any project implemented pursuant to 310 CMR 7.36(4) and (5); and (3) replaces references to the Commonwealth's Executive Office of Transportation and EOT with Massachusetts Department of Transportation and MassDOT, respectively. The formal SIP revision was submitted to EPA by Massachusetts on November 6, 2013.

EPA's role in reviewing SIP revisions is to approve state choices, provided they meet the criteria of the Clean Air Act. An adequate SIP revision is one that, among other things, meets the Clean Air Act requirement under CAA section 110(l) that a SIP revision must not interfere with any applicable requirement concerning attainment and reasonable further progress (as defined in CAA section 171) in relation to the national air quality standards (NAAQS) or any other applicable requirement of the Act. The Commonwealth has flexibility to revise SIP-approved transportation control measures (TCMs), provided the revisions are consistent with attaining and maintaining compliance with the NAAQS. EPA has determined that the removal of the design aspect of the Red Line/Blue Line Connector from the SIP, as well as the administrative revisions included in Massachusetts' November 6, 2013 SIP submittal, do not interfere with attainment or with reasonable further progress or any other applicable Clean Air Act requirement. Therefore, we are approving Massachusetts' revised 310 CMR 7.36, “Transit System Improvements.”

II. Response to Comments

EPA received forty-one comments on our December 1, 2014 NPR. Comments were received from: U.S. Senators Elizabeth Warren and Edward J. Markey; U.S. Representatives Michael Capuano and Katherine Clark; Edward W. Deveau, Candidate for State Representative, 1st Suffolk District; Boston Councilor Salvatore LaMattina; Massachusetts Port Authority (Massport); Conservation Law Foundation (CLF); A Better City (ABC); and Frederick Salvucci (former Secretary of Massachusetts Department of Transportation). In addition, comments were received from East Boston, Dorchester, and Medford, Massachusetts residents. Although six of the forty-one comments were received after the public comment period closed, all comments have been fully considered and responded to in this final action.

Copies of the public comments have been placed in the public docket without change and are available online at http://www.regulations.gov, docket number EPA-R01-OAR-2013-0786, document numbers EPA-R01-OAR-2013-0786-0040 through EPA-R01-OAR-2013-0786-0080.

Comment #1: Commenters urged the EPA to deny MassDEP's request to amend the SIP and to continue to include the design aspect of the Red Line/Blue Line Connector in the Commonwealth's program. Some of these comments related to a desire to decrease traffic congestion and to improve commuting convenience for riders of the mass transit system. Other comments identified a concern about adverse impacts of the SIP revision to lower income communities, sometimes raising the concept of environmental justice in that context.

Response #1: EPA acknowledges the commenters' support for the design of the Red Line/Blue Line Connector, and the variety of reasons for their support. However, the relevant question before EPA in deciding whether or not to approve the proposed Massachusetts SIP revision before us is whether Massachusetts' deletion of the design of the Red Line/Blue Line Connector from the SIP would interfere with any applicable requirement concerning attainment or reasonable further progress, or any other applicable Clean Air Act requirement. See CAA section 110(l). As noted in EPA's December 1, 2014 NPR, the previously approved SIP requirement at issue is for the design aspect of a project only; consequently, removing this particular requirement from the SIP will not affect the total emission reductions achieved from the projects included in the Massachusetts Transit System Improvements Regulation and also would not interfere with any applicable requirement concerning attainment, reasonable further progress, or any other applicable Clean Air Act requirements, thereby satisfying the requirements set forth in section 110(l) of the Clean Air Act. Therefore, EPA is approving the revised regulation.

Comment #2: Commenters expressed concern that removing the design of the Red Line/Blue Line Connector from the SIP would free the MassDOT (Massachusetts Department of Transportation) from its commitment to move forward on the project, thus jeopardizing the prospects of the Red Line/Blue Line Connector ever becoming a reality.

Response #2: As noted above in our response to Comment #1, EPA's role is to determine whether or not removing the commitment to design the Red Line/Blue Line Connector from the SIP is consistent with the requirements of the Clean Air Act. We note that the Massachusetts SIP does not contain any provision requiring Massachusetts to implement and operate the Red Line/Blue Line Connector. In fact, that requirement was previously removed from the SIP after notice and comment, as discussed in the notice of proposed rulemaking. We also, note, that approving the removal of the requirement to design the Red Line/Blue Line Connector from the SIP, does not preclude this project from moving forward at a later date. Whether or not the project and/or its design is in the Massachusetts SIP, the Commonwealth is free to implement the project in the future if it so chooses.

Comment #3: Commenters stated that full design of the Red Line/Blue Line Connector is a commitment MassDOT made in 2006, and if MassDOT had no intention of building the Red Line/Blue Line Connector, that would have been the time to decline to take on the design as a legal commitment.

Response #3: Again, we note that EPA's role in reviewing SIP revisions is to approve state choices, provided they meet the relevant requirements of the Clean Air Act. However, for completeness, we also note the following regarding MassDOT's stated rationale regarding this project. MassDOT took a number of steps since 2006 to advance the Red Line/Blue Line Connector design, including, but not limited to, allocating resources to advance the conceptual design, completing a Draft Environmental Impact Report, and forming and meeting with a working group. MassDOT has estimated that $50 million would be needed to complete the final design, far exceeding the $29 million last identified in the Boston Metropolitan Planning Organization (MPO) 2009 Regional Transportation Plan (RTP). MassDOT determined as part of this effort and as a result of its findings, that allocating additional and scarce transportation funding to the final design of this particular project is not justified at this time, and that emissions reductions that will occur pursuant to other approved transportation control measures are adequate.

Comment #4: Commenters noted that they want all “Big Dig” mitigation requirements enforced by EPA and requested that EPA insist that the Commonwealth of Massachusetts finish the final design plans for the Red Line/Blue Line Connector project. Similarly, other commenters stated that they wish to protest the possible negation of the commitment, made during the Big Dig, to finally connect the Blue Line to the Red Line at Charles Street in Boston, Massachusetts.

Response #4: Again, EPA acknowledges the commenters' support for the Red Line/Blue Line Connector project, but we reiterate that EPA's role in reviewing SIP revisions is to approve state choices, provided they meet the relevant requirements of the Clean Air Act. As explained earlier, Massachusetts' proposed SIP revision and EPA's approval of it, meet all relevant CAA requirements, including those contained within CAA section 110(l). In addition, we note that not all of the mitigation projects associated with the “Depression of the Central Artery and Third Harbor Tunnel Project” (known as CA/THT or the Big Dig) were submitted by the Commonwealth of Massachusetts to be part of its SIP, and were not required to be under the CAA. Those mitigation measures adopted into the Massachusetts SIP in 1991 (see October 4, 1994; 59 FR 2795) and modified in 2006 (see July 31, 2008; 73 FR 44654) are clearly identified in the December 1, 2014 NPR (79 FR 71061).

Comment #5: One commenter stated that MassDEP's proposed SIP revision should be disapproved or denied by EPA as inconsistent with the requirements of the CAA because Massachusetts has not offered a substitution project or measure in place of, or in substitution for, the design for the Red Line/Blue Line Connector project. Similarly, another commenter noted that the air quality benefits from the Red Line/Blue Line Connector project are implicit in the initial inclusion of the design requirement into the SIP, and therefore cannot be removed without substitution. Another commenter further commented that if the original inclusion of the Red Line/Blue Line Connector project design in the revised SIP helped the state achieve compliance with the NAAQS, it would be inconsistent to remove it now without substitution.

Response #5: As stated in EPA's December 1, 2014 NPR, because the previously approved SIP requirement is for design of the project only, removing this requirement from the SIP will not affect the total emission reductions achieved from the totality of the projects included in the Massachusetts Transit System Improvements Regulation and would not interfere with any applicable requirement concerning attainment, reasonable further progress, or any other applicable Clean Air Act requirement, thereby satisfying the requirements set forth in section 110(l) of the Clean Air Act. Moreover, MassDEP has demonstrated that the requirements of SIP-approved regulation 310 CMR 7.36, “Transit System Improvements” have been met. That regulation contains specific provisions under 310 CMR 7.36 (5), “Substitute Transit System Improvement Projects,” and 310 CMR 7.36 (8), “Determination of Air Quality Emission Reductions” that govern the requirements that MassDOT must meet when substituting for certain projects required by 310 CMR 7.36. Those projects include the Fairmount Line improvements outlined in 310 CMR 7.36(2)(h)1. and Green Line Extension projects outlined in 310 CMR 7.36(2)(i). For those projects, the substitution provisions are very specific and must include a demonstration that the proposed substitute project will achieve 110% of the emission reductions of NMHC, CO and NOX that would have been achieved had all components of the project required by 310 CMR 7.36 been completed. These substitution provisions do not include the design of the Red Line/Blue Line Connector project which MassDEP has concluded will achieve no air quality benefits. As such, as discussed above in an earlier response to comment, no substitution for this SIP revision is required under the SIP.

Comment #6: A commenter noted that there will be a time in the not too distant future when it will be apparent that the Red Line/Blue Line Connector project must be built, either for Clean Air Act attainment purposes, or for economic development and/or environmental justice reasons. According to the commenter, since MassDOT clearly has no intention of preparing for that moment, it must be forced to do so.

Response #6: The transportation measure in the Massachusetts' SIP is a requirement to design the Red Line/Blue Line Connector project. EPA has no authority under the CAA or any other statute or regulation to require the Commonwealth to build a particular transportation measure which is not part of the approved SIP. Moreover, not including a transportation project in the SIP does not in any way prevent the Commonwealth from constructing the project. The legal analysis as to whether or not EPA must, under the CAA, approve Massachusetts' SIP revision in this instance, particularly because it is only a design requirement with no air quality or emissions implications, does not change in light of potential economic development or environmental justice concerns.

Comment #7: One commenter stated that the EPA should consider requiring the Commonwealth to remain committed to complete the design of the project while investigating innovative finance options for its implementation.

Response #7: The Commonwealth has flexibility to revise its SIP-approved transportation control measures (TCMs), provided the revisions are consistent with attaining and maintaining compliance with the NAAQSs, reasonable further progress, and any other applicable requirements of the CAA. EPA has no authority to require the Commonwealth to investigate innovative finance options for the Red Line/Blue Line Connector project's implementation.

Comment #8: One commenter expressed that there was a very serious harm caused by the MBTA's failure to complete in a timely manner the final design for the Red Line/Blue Line Connector project, because the Commonwealth's project to relocate Storrow Drive at Charles Street into a straighter alignment is located in the same area identified in the Blue-Red DEIS (Draft Environmental Impact Statement) as needed for an underground rail track.

Response #8: This comment is not germane to the requirements of the CAA pursuant to which EPA must evaluate the Commonwealth's SIP revision. As noted earlier, the SIP revision only relates to a provision that requires design, not implementation, of a project. However, for completeness, we note that completion of the design of the Red Line/Blue Line Connector would not preserve the right of way for the Red Line/Blue Line Connector, nor prevent any state, county or city transportation project from incursion into the area defined as project limits or right of way in the Red Line/Blue Line Connector design. The Boston Metropolitan Planning Organization which includes the Mass DOT, and the City of Boston must establish priority of transportation projects and in their transportation planning avoid or mitigate conflicts with future transportation projects.

Comment #9: A commenter presented the idea of a pedestrian connection between State Street and Downtown Crossing as an alternative to the Red Line/Blue Line Connector project. As described by the commenter, this alternative project would extend the existing Orange Line Southbound platform at State Street to connect with the existing Orange Line Northbound platform at Downtown Crossing. The commenter notes that this connection would allow fare-paying riders to walk under Washington Street between State Street and Downtown Crossing, thus providing an alternative Red Line/Blue Line connection. The commenter noted that the Jeffries Point Neighborhood Association (JPNA) strongly supports the engineering and construction of the Red Line/Blue Line Connector project. However, the commenter also noted that should the EPA allow the Commonwealth to abandon the Red Line/Blue Line Connector, it must mandate the Commonwealth to pursue alternatives, such as the pedestrian tunnel outlined above.

Response #9: As noted earlier, EPA's role in this rulemaking action is to approve state choices, provided they meet the requirements of the Clean Air Act. As we've explained, the CAA does not provide EPA with the authority in the context of this particular SIP revision to require the Commonwealth to implement any alternative project(s), including those identified by a number of commenters. Thus, the issue of alternatives to the Red Line/Blue Line Connector is not germane to EPA's approval or disapproval of the Commonwealth's request to remove the design of the Red Line/Blue Line Connector project from the Massachusetts SIP without substitution or replacement.

Comment #10: One commenter noted that with the announcement that Boston was chosen as the U.S. delegate to host the 2024 Summer Olympics, now is as good a time as any to revisit the Commonwealth's transportation issues.

Response #10: The Commonwealth's transportation planning efforts will continue over time to evaluate and prioritize transportation projects in the Boston area and across the Commonwealth. The removal of the design of the Red Line/Blue Line Connector project is consistent with Massachusetts Department of Transportation's planning process. The CAA does not provide EPA with the authority to disapprove the Commonwealth's SIP revision as a result of the possibility that Boston may host the 2024 Olympic Games.

Comment #11: One commenter asserted that there are clearly air quality benefits associated with designing a transit project. Specifically, the commenter stated:

For a transit project to be constructed, it has to be designed first. Frequently, funding becomes available for a transit project only after it has been designed. Increasingly, only projects that are shovel-ready are eligible to apply when Federal funding opportunities arise. Thus, designing a transit project, more than anything else, raises its chances of being built. As a result, air quality benefits can be calculated by applying a discounted percentage of those the constructed project would produce . . . Even if discounted by ninety percent, the design of the Connector would still provide emission reductions of 15.6 kilograms for carbon monoxide, 0.4 kilograms for nitrogen oxides, and 0.9 kilograms for volatile organic compounds per day.

Response #11: EPA agrees that designing a project and having the project “shovel-ready” increases a project's chance of being implemented, but disagrees that any air quality benefits necessarily would be obtained or derived from a project which only involves the requirement to design the project on paper. A project must be completed and operational to derive any air quality benefits and the SIP revision does not include removal of any provisions that require completion of the project or its operation. EPA does not believe that estimating air quality benefits or emissions reductions using discount factors reflecting probabilities that a project will or will not occur is appropriate in this context, and nothing in the CAA suggests that EPA is obligated, or even has the authority, to do so.

Comment #12: A commenter noted that, ultimately, the SIP has to allow the Commonwealth to attain and/or maintain compliance with the NAAQS and that MassDEP has not provided any modeling as part of this proposal to amend the SIP to demonstrate that the remaining projects are sufficient. The commenter further stated that to even be able to evaluate this request to amend the SIP properly, EPA should require MassDEP to remodel the air quality benefits expected from the projects remaining in the revised SIP and then compare those benefits to those of the remaining transit system improvement projects without the Red Line/Blue Line Connector project.

Response #12: The three changes being considered by EPA in this SIP revision, (removal of the design of the Red Line/Blue Line Connector from the Massachusetts SIP, without substitution or replacement; implementation of administrative changes that lengthen the existing public process by fifteen days; and replacement of references to the Executive Office of Transportation (EOT) with references to the Massachusetts Department of Transportation (MassDOT)), would not affect the assumptions used in, or the results of, the air quality modeling conducted when the transportation control measures currently in the SIP, and which will remain in the SIP, were previously approved by EPA; nor would any of the revisions EPA is approving in this final action alter the air quality results.

Comment #13: A number of commenters presented the merits of a completed Red Line/Blue Line Connector project.

Response #13: EPA acknowledges the potential benefits associated with a completed Red Line/Blue Line Connector Project. However, the project as defined in the Massachusetts SIP is only for design of the Red Line/Blue Line Connector. EPA and the Massachusetts Department of Environmental Protection have concluded that there are no air quality benefits achieved by the inclusion in the Commonwealth's SIP of the requirement to only design the Red Line/Blue Line Connector.

Comment #14: One commenter expressed concern that, if EPA does not enforce regulations which it encouraged the state to adopt in conjunction with the largest highway construction project in recent history, what reason is there to take EPA seriously when it talks about new regulations about climate change? Additionally, the commenter noted:

It may be difficult to get Massachusetts to behave responsibly, but the least the public should be able to expect out of EPA is that it clearly find fault with the ridiculously delayed non-performance of Massachusetts, and not endorse the cynical effort to drop a commitment that has been included in Big Dig regulations since the 1990 final EIR (Environmental Impact Report) and 1991 DEP vent shaft regulations, and the 1993 SIP, and part of the basis of the 2006 court settlement.

Response #14: As noted in the December 1, 2014 NPR, the original commitment to construct the Red Line/Blue Line Connector project was changed to a design only commitment in a 2006 SIP revision, which was approved by EPA on July 31, 2008 (73 FR 44654). Under consideration in today's action is EPA's approval of the removal of the commitment to design the Red Line/Blue Line Connector project. Climate change-related regulations, and whether persons believe there are reasons to take EPA's efforts to address climate change seriously, are not relevant to today's action. Moreover, the commenter's reference to Massachusetts' alleged “ridiculously delayed non-performance,” is misplaced because it makes reference to projects that are either (1) no longer part of the Massachusetts SIP and which have been replaced by other projects or (2) addressed by provisions in the Massachusetts regulation at 310 CMR 7.36(4) “Project Delays and Implementation of Interim Emission Reduction Offset Projects and Measures.” In the case of delayed projects, MA DOT has submitted the appropriate “petition to delay the project,” which identifies the necessary interim offset project(s); has undergone the required public review, and has received approval by the Massachusetts Department of Environmental Protection. And nothing contained in the commenter's comment leads EPA to conclude that any relevant requirement of the CAA is not being complied with or is being violated. Finally, EPA believes that Massachusetts' administrative record, which included a public hearing, a comment period and responses to public comments, indicates that Massachusetts had rational reasons for concluding that finishing the design for the Red Line/Blue Line Connector would not be prudent.

Comment #15: One commenter stated that inaction by Massachusetts on the transit and other SIP commitments has caused substantially more damage to air quality than the standard traffic and air quality prediction methods predict. In particular, the commenter stated that the delay in implementation of the original commitments has resulted in land use adjustments that are less transit oriented than would have been the case, and auto ownership patterns higher than would have been the case, with lasting negative impacts that are not factored into the standard models used by Massachusetts. Another commenter also stated, “The situation cries out for at least a transparent re-evaluation of the original 1990 commitments, and begs the question of the need for much more aggressive implementation of transit improvements to get the horse back into the barn, now that it has been allowed to run amuck in the garden.”

Response #15: As noted above, not all of the mitigation projects associated with the “Depression of the Central Artery and Third Harbor Tunnel Project” (known as CA/THT or the Big Dig) were submitted by the Commonwealth of Massachusetts to be part of its SIP; nor were they required to be by the CAA. Those mitigation measures adopted into the Massachusetts SIP in 1991 (see October 4, 1994; 59 FR 2795) and modified in 2006 (see July 31, 2008; 73 FR 44654) are clearly identified in the December 1, 2014 NPR (79 FR 71061). EPA concluded in the 1994 and 2008 approval actions, that the Massachusetts transportation control measures incorporated into the SIP were consistent with the requirements of the CAA, including CAA section 110(l) for the 2008 approval action. As noted earlier on several occasions, today's action is limited to EPA's approval of the removal of the commitment to design the Red Line/Blue Line Connector project. EPA finds no basis or authority under the CAA that would require the Agency to undertake the steps and analysis suggested by the commenter as a result of the SIP revision at issue today.

Comment #16: One commenter recommended that the Commonwealth be required to perform a comprehensive re-analysis of emerging congestion on the center of the interstate network, including analysis of the capacity of the system to handle the Everett Casino, The Seaport Innovation District projected build-out, the Kendall square expected build-out, additional parking under consideration at Logan Airport, and identification of further needed transit investment to support these added traffic generators.

Response #16: Overall transportation planning considerations are not germane to this SIP revision and EPA has no authority under the CAA to require the Commonwealth to undertake such analyses in the context of EPA's action on the Commonwealth's submitted SIP revision. Requiring the Commonwealth, the Metropolitan Planning Organization, or the Cities of Boston, Cambridge and Everett to conduct additional transportation planning is outside EPA's authority to evaluate and approve the Massachusetts SIP revision before EPA.

III. Final Action

EPA is approving Massachusetts' revised 310 CMR 7.36, “Transit System Improvements,” submitted on November 6, 2013, as a revision to the Massachusetts SIP. This revised rule: (1) Deletes the existing SIP requirement to design the Red Line/Blue Line Connector project from the Blue Line at Government Center to the Red Line at Charles Station; (2) lengthens by fifteen days the time period during which MassDEP must hold a public meeting and take public comment on MassDOT's annual update and status report; and (3) replaces references to Executive Office of Transportation and EOT with references to Massachusetts Department of Transportation and MassDOT, respectively.

EPA's review of the material submitted on November 6, 2013 to remove the “design only” of the Red Line/Blue Line Connector project from the Massachusetts SIP; add administrative changes to lengthen portions of the public process under 310 CMR 7.36(2)(i); and update references to the appropriate State transportation agency, indicates that these modifications would not interfere with any applicable requirement concerning attainment, reasonable further progress, or any other applicable Clean Air Act requirement.

IV. Incorporation by Reference

In this rule, the EPA is finalizing regulatory text that includes incorporation by reference. In accordance with requirements of 1 CFR 51.5, the EPA is finalizing the incorporation by reference of the Massachusetts' regulation described in the amendments to 40 CFR part 52 set forth below. The EPA has made, and will continue to make, these documents generally available electronically through http://www.regulations.gov and/or in hard copy at the appropriate EPA office (see the ADDRESSES section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 8, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 29, 2015.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart W—Massachusetts

2. Section 52.1120 is amended by adding paragraph (c)(143) to read as follows:

§ 52.1120 Identification of plan.

* * * * *

(c) * * *

(143) Revisions to the State Implementation Plan submitted by the Massachusetts Department of Environmental Protection on November 6, 2013.

(i) Incorporation by reference.

(A) Massachusetts Regulation 310 CMR 7.36 entitled “U Transit System Improvements,” effective in the Commonwealth of Massachusetts on October 25, 2013.

(ii) Additional materials.

(A) Letter from the Massachusetts Department of Environmental Protection dated November 6, 2013 submitting a revision to the Massachusetts State Implementation Plan.

3. In § 52.1167, Table 52.1167 is amended by adding a new entry to the existing state citation for 310 CMR 7.36 to read as follows:

§ 52.1167 EPA-approved Massachusetts State regulations.

* * * * *

Table 52.1167—EPA-Approved Rules and Regulations
[See notes at end of table]
State citation | Title/subject | Date submitted by state | Date approved by EPA | Federal Register citation | 52.1120(c) | Comments/ unapproved sections
* * * * * * *
310 CMR 7.36 | Transit System Improvements | 11/6/13 | 12/8/15 | [Insert Federal Register citation] | 143 | Removes from the SIP the commitment to design the Red Line/Blue Line Connector project.
* * * * * * *
Notes: 1. This table lists regulations adopted as of 1972. It does not depict regulatory requirements which may have been part of the Federal SIP before this date.
2. The regulations are effective statewide unless otherwise stated in comments or title section.

[FR Doc. 2015-30819 Filed 12-7-15; 8:45 am]

BILLING CODE 6560-50-P